DEPARTMENT OF HOMELAND SECURITY

Federal Emergency Management Agency

[Docket ID FEMA-2018-0002; Internal Agency Docket No. FEMA-B-1872]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Arizona:
Maricopa | City of Scottsdale (18-09-1514P). | The Honorable W.J. “Jim” Lane, Mayor, City of Scottsdale, City Hall, 3939 North Drinkwater Boulevard, Scottsdale, AZ 85251. | Planning Records, 7447 East Indian School Road, Suite 100, Scottsdale, AZ 85251. | https://msc.fema.gov/portal/advanceSearch. | Mar. 15, 2019 | 045012
Maricopa | Town of Paradise Valley (18-09-1514P). | The Honorable Michael Collins, Mayor, Town of Paradise Valley, 6401 East Lincoln Drive, Paradise Valley, AZ 85253. | Town Hall, 6401 East Lincoln Drive, Paradise Valley, AZ 85253. | https://msc.fema.gov/portal/advanceSearch. | Mar. 15, 2019 | 040049
Florida: St. Johns | Unincorporated Areas of St. Johns County (18-04-6389P). | Mr. Henry Dean, Chairman, St. Johns County Board of Commissioners, 500 San Sebastian View, St. Augustine, FL 32084. | St. Johns County Administration Building, 4020 Lewis Speedway, St. Augustine, FL 32084. | https://msc.fema.gov/portal/advanceSearch. | Mar. 20, 2019 | 125147
Idaho: Ada | City of Boise (18-10-0336P). | The Honorable David Bieter, Mayor, City of Boise, P.O. Box 500, Boise, ID 83701. | Planning and Development Services, City Hall, 150 North Capital Boulevard, Boise, ID 83701. | https://msc.fema.gov/portal/advanceSearch. | Mar. 11, 2019 | 160002
Illinois:
Cook | Village of Northbrook (18-05-5952P). | The Honorable Sandra E. Frum, Village President, Village of Northbrook, 1225 Cedar Lane, Northbrook, IL 60062. | Public Works Department, Engineering Division, 655 Huehl Road, Northbrook, IL 60062. | https://msc.fema.gov/portal/advanceSearch. | Mar. 1, 2019 | 170132
McHenry | Unincorporated Areas of McHenry County (18-05-5951P). | The Honorable Jack D. Franks, Chairman, McHenry County Board, McHenry County Government Center, 2200 North Seminary Avenue, Woodstock, IL 60098. | McHenry County Government Center, 2200 North Seminary Avenue, Woodstock, IL 60098. | https://msc.fema.gov/portal/advanceSearch. | Mar. 20, 2019 | 170732
Indiana:
Madison | City of Anderson (17-05-5967P). | The Honorable Thomas J. Broderick, Jr., Mayor, City of Anderson, Anderson City Building, 120 East 8th Street, Anderson, IN 46016. | City Hall, 120 East 8th Street, Anderson, IN 46018. | https://msc.fema.gov/portal/advanceSearch. | Mar. 15, 2019 | 180150
Madison | Town of Country Club Heights (17-05-5967P). | The Honorable Carey McLaughlin, Town Manager, Town of County Club Heights, 30 Overlook Drive, Anderson, IN 46011. | Administrative Building 1202 North Madison Avenue, Anderson, IN 46011. | https://msc.fema.gov/portal/advanceSearch. | Mar. 15, 2019 | 180451
Madison | Town of Woodlawn Heights (17-05-5967P). | The Honorable Steve Murphy, Town Manager, Town of Woodlawn Heights, P.O. Box 888, Anderson, IN 46015. | Town Hall, 1625 Van Buskirk Road, Anderson, IN 46015. | https://msc.fema.gov/portal/advanceSearch. | Mar. 15, 2019 | 180495
Madison | Unincorporated Areas of Madison County (17-05-5967P). | The Honorable John Richwine, President, Madison County Board of Commissioners, Government Center, 16 East 9th Street, Anderson, IN 46016. | Madison County Government Center, 16 East 9th Street, Room 200, Anderson, IN 46016. | https://msc.fema.gov/portal/advanceSearch. | Mar. 15, 2019 | 180442
Kansas: Lyon | City of Emporia (18-07-1531P). | The Honorable Danny Giefer, Mayor, City of Emporia, P.O. Box 928, Emporia, KS 66801. | Water Department, 104 East 5th Avenue, Emporia, KS 66801. | https://msc.fema.gov/portal/advanceSearch. | Mar. 12, 2019 | 200203
Minnesota: Carver | City of Waconia (18-05-4974P). | The Honorable Jim Sanborn, Mayor, City of Waconia, Waconia City Hall, 201 South Vine Street, Waconia, MN 55387. | City Hall, 201 South Vine Street Waconia, MN 55387. | https://msc.fema.gov/portal/advanceSearch. | Dec. 26, 2018 | 270055
Nevada: Clark | City of North Las Vegas (18-09-0886P). | The Honorable John J. Lee, Mayor, City of North Las Vegas, 2250 Las Vegas Boulevard North, North Las Vegas, NV 89030. | Public Works Department, 2200 Civic Center Drive, North Las Vegas, NV 89030. | https://msc.fema.gov/portal/advanceSearch. | Mar. 12, 2019 | 320007
New Jersey:
Monmouth | Borough of Atlantic Highlands (18-02-1965P). | The Honorable Rhonda Le Grice, Mayor, Borough of Atlantic Highlands, Borough Hall, 100 1st Avenue, Atlantic Highlands, NJ 07716. | Borough Hall, 100 1st Avenue, Atlantic Highlands, NJ 07716. | https://msc.fema.gov/portal/advanceSearch. | Mar. 21, 2019 | 340286
Monmouth | Borough of Highlands (18-02-1965P). | The Honorable Rick O'Neil, Mayor, Borough of Highlands, Administrative Offices, 42 Shore Drive, Highlands, NJ 07732. | Municipal Office, 42 Shore Drive, Highlands, NJ 07732. | https://msc.fema.gov/portal/advanceSearch. | Mar. 21, 2019 | 345297
New York: Westchester | City of Rye (18-02-1994P). | The Honorable Josh Cohn, Mayor, City of Rye, 1051 Boston Post Road, Rye, NY 10580. | City Hall, 1051 Boston Post Road, Rye, NY 10580. | https://msc.fema.gov/portal/advanceSearch. | May 2, 2019 | 360931
Washington: Spokane | City of Spokane Valley (18-10-1264P). | The Honorable Rod Higgins, Mayor, City of Spokane Valley, Spokane Valley City Hall, 10210 East Sprague Avenue, Spokane Valley, WA 99206. | City Hall, 10210 East Sprague Avenue, Spokane Valley, WA 99206. | https://msc.fema.gov/portal/advanceSearch. | Mar. 15, 2019 | 530342
Wisconsin: Dodge | City of Watertown (18-05-4306P). | The Honorable John David, Mayor, City of Watertown, P.O. Box 477, Watertown, WI 53094. | City Hall, 106 Jones Street, Watertown, WI 53094. | https://msc.fema.gov/portal/advanceSearch. | Feb. 26, 2019 | 550107

[FR Doc. 2018-28149 Filed 12-27-18; 8:45 am]

BILLING CODE 9110-12-P